DEPARTMENT OF HEALTH AND HUMAN SERVICES

Statement of Organization, Functions, and Delegations of Authority; Administration for Community Living

AGENCY: Department of Health and Human Services.

ACTION: Notice.

SUMMARY: The Administration for Community Living (ACL) was created in order to achieve several important objectives: to reduce the fragmentation that currently exists in Federal programs addressing the community living service and support needs of both the aging and disability populations; to enhance access to quality health care and long-term services and supports for all individuals; to promote consistency in community living policy across other areas of the Federal government; and to complement the community infrastructure, as supported by both Medicaid and other Federal programs, in order to better respond to the full spectrum of needs of seniors and persons with disabilities. This reorganization will further advance these objectives by establishing a Center for Consumer Access and Self-Determination to serve as the locus for programs that assist older Americans and people with disabilities to access both health care services and long-term services and supports, as well as initiatives to expand the use of self-directed and person-center service models; and by establishing a Center for Policy and Evaluation to provide a strategic focal point for the development and implementation of policies to improve access to long-term services and supports and enhance opportunities for both populations to live in their communities.

FOR FURTHER INFORMATION CONTACT: Dan Berger, Administration for Community Living, 1 Massachusetts Avenue NW., Washington, DC 20201, 202-357-3419.

SUPPLEMENTARY INFORMATION: This notice amends Part B of the Statement of Organization, Functions, and Delegations of Authority of the Department of Health and Human Services (HHS), Administration for Community Living, as last amended at 77 FR 23250-23260, dated April 18, 2012, as follows:

I. Delete Part B, “The Administration for Community Living”; in its entirety and replace with the following:

B.00 Mission

B.10 Organization

B.20 Functions

B.00 Mission. The Administration for Community Living's (ACL) mission is to maximize the independence, well-being, and health of older adults, people with disabilities across the lifespan, and their families and caregivers. ACL provides national leadership and direction to plan, manage, develop, and raise awareness of comprehensive and coordinated systems of long-term services and supports that enable older Americans and individuals with disabilities, including intellectual, developmental, and physical disabilities, to maintain their health and independence in their homes and communities. ACL programs support strong State, Tribal, and local community networks designed to respond to the needs of persons with disabilities, older Americans, and their families through advocacy, systems change and capacity building to ensure access to needed community services, individualized supports, and other forms of assistance that promote self-determination, independence, productivity, and integration and inclusion in all facets of community life.

ACL advises the Secretary, Departmental components and other Federal departments and agencies on the development and implementation of policies to improve access to community living services and supports and enhance opportunities for persons with disabilities and older Americans, while retaining discrete policy and programmatic operations that respond to the unique needs of these populations. ACL's visibility within the Department of Health and Human Services and with other Federal agencies helps ensure that Federal policies and programs allow all individuals across the lifespan to live with respect and dignity as full members of their communities.

B.10 Organization. ACL is an Operating Division of the Department of Health and Human Services. ACL is headed by an Administrator, who reports directly to the Secretary. The Administrator is also the Assistant Secretary for Aging. In addition to the Administrator, the ACL consists of the Principal Deputy Administrator, who also serves as the senior advisor to the Secretary on HHS activities relating to disabilities, and Staff and Program Offices. ACL is organized as follows:

Office of the Administrator (BA)

Administration on Aging (BB)

Administration on Intellectual and Developmental Disabilities (BC)

Center for Consumer Access and Self-Determination (BD)

Center for Management and Budget (BE)

Center for Policy and Evaluation (BF)

B.20 Functions. ACL is the principal agency designated to lead aging and disability programs. More specifically, the provisions of the Older Americans Act (OAA) of 1965 are carried out by its subcomponent, the Administration on Aging; and the provisions of the Developmental Disabilities Assistance and Bill of Rights Act (DD Act) of 2000 are carried out by its subcomponent, the Administration on Intellectual and Developmental Disabilities. ACL also administers programs authorized under Title III, Title XVII and Title XXIX of the Public Health Service Act (PHSA), Section 262 and 292 of the Help America Vote Act (HAVA), section 119 of the Medicare Improvements for Patients and Providers Act (MIPPA) of 2008, Section 6021(d) of the Deficit Reduction Act (DRA) of 2005, section 4360 of the Omnibus Budget Reconciliation Act (OBRA) of 1990, and the Elder Justice Act (EJA) of 2010 (Subtitle B of Title XX of the Social Security Act); and provides continuing support for the administration of the President's Committee for People with Intellectual Disabilities.

Develops, recommends and issues regulations, policies, procedures, standards and guidelines to provide direction for the programs it administers. Approves or disapproves plans and funding applications for national programs providing community-based long-term services and supports. Administers programs for training, research, demonstration, evaluation and information dissemination. Administers programs related to advocacy, systems change and capacity building. Administers national centers for service development and provides technical assistance to States, Tribal Organizations, local communities and service providers. Serves as the lead Federal agency for adult protection services.

Assists the Secretary in all matters pertaining to opportunities and challenges of persons with disabilities, older Americans, and Americans of all ages about their current and potential future need for information and access to long-term services and supports. Advocates for the needs of these constituencies in program planning and policy development within the Department and in other Federal agencies. Advises the Secretary, Departmental components and other Federal departments and agencies on the characteristics, circumstances and needs of these populations and develops policies, plans and programs designed to promote their welfare.

The functions of the organizational units of ACL are described in detail in the succeeding Chapters.

A. Office of the Administrator (BA):

BA.00 Mission

BA.10 Organization

BA.20 Functions

BA.00 Mission. The Office of the Administrator provides executive direction, leadership, and guidance for ACL programs, and serves as the focal point for the development, coordination and administration of those programs nationwide. The Office advises the Secretary on issues affecting seniors and persons with disabilities.

BA.10 Organization. The Office of the Administrator is headed by the Administrator, who reports directly to the Secretary. The Office of the Administrator includes the Principal Deputy Administrator, who also serves as an advisor to the Secretary on HHS activities relating to disabilities, and the following components:

Immediate Office of the Administrator (BAA)

Office of External Affairs (BAB)

Office of Regional Operations (BAC1-BACX)

BA.20 Functions.

1. Immediate Office of the Administrator (BAA). The Immediate Office of the Administrator (IOA) is responsible to the Secretary for carrying out ACL's mission and provides executive supervision to the major components of ACL. The Administrator and Principal Deputy both serve as members of the Secretary's senior leadership team, ensuring that Federal policies and programs support the goal of enabling all individuals to live with respect and dignity as fully participating members of their communities.

Sets national policies, establishes national priorities, ensures policy consistency, and directs plans and programs conducted by ACL. Advises the Secretary, HHS Operating Divisions, and other Federal agencies on the characteristics, circumstances, and needs of persons with disabilities, older Americans, and their families and on policies, plans and programs designed to promote their welfare.

Coordinates the development of legislative proposals, testimony, background statements, and other policy documents in activities related to legislation. In coordination with the HHS Office of the Assistant Secretary for Legislation, analyzes proposed and enacted legislation related directly or indirectly to older people and persons with disabilities, including legislation directly affecting ACL programs.

In collaboration with other Federal agencies, develops and implements interagency agreements to advance the concerns and interests of persons with disabilities, older adults, and families of such individuals. Provides liaison to Federal advisory committees. Works with national organizations, professional societies, and academic organizations to identify mutual interests and plan voluntary and funded approaches to enhance opportunities for community living.

Receives, assesses, and controls incoming correspondence and makes assignments to the appropriate ACL component(s) for response and action; provides assistance and advice to ACL staff on the development of responses to correspondence; and tracks development of periodic reports and facilitates departmental clearance. Maintains official copies of all policy and information issuances, ensuring adherence to requirements for records management and disposition and Freedom of Information Act.

2. Office of External Affairs (BAB). The Office of External Affairs (OEA) supports the Immediate Office of the Administrator in the effective communication of ACL policies, goals, and objectives. In coordination with the Department, manages ACL's media relations and external outreach activities.

Coordinates with the HHS Office of the Assistant Secretary for Public Affairs, including planning and implementing strategy for relations with the news and other information media. Initiates media outreach activities; responds to all media inquiries concerning ACL programs and related issues; develops news releases, feature articles for magazines and other publications on ACL programs and initiatives; and manages preparation and clearance of speeches and official statements on ACL programs.

Implements public education activities to support the achievement of program objectives; develops and distributes publications and audiovisual materials about older people and persons with disabilities and prepares and issues brochures, fact sheets, and exhibits on their needs and concerns and measures to improve the circumstances, available services, and environment for the older population. Develops special information campaigns to inform the general public about issues, problems and benefits important to persons with disabilities and older people. Fosters, plans and coordinates ceremonies and celebrations. Manages the content of ACL Web sites and oversees the development of other social media tools used to inform the public about ACL policies, programs and services. Implements the National Clearinghouse for Long-Term Care Information authorized under Section 6021(d) of the DRA of 2005.

3. Office of Regional Operations (BAC1-BACX). The Office of Regional Operations (ORO) includes a coordinating central office liaison and ten Regional Support Centers. The central office regional liaison coordinates the operations of the Regional Support Centers, each of which is headed by a Regional Administrator (RA).

The Regional Support Centers serve as the focal point for the development and coordination of ACL programs within the designated HHS region. Represent the Administrator within the region, providing information for, and contributing to the development of, national programs serving with the elderly and persons with disabilities. Serve as the effective and visible advocate to other Federal agencies in their geographic jurisdiction; advise, consult and cooperate with each Federal agency proposing or administering programs or services; coordinate and assist in the planning and development by public (including Federal, State, Tribal and local agencies) and private organizations of comprehensive and coordinated services and opportunities in each community of the nation; and conduct active public education of government officials and the public to ensure broad understanding of the need for community-based services and supports.

Monitor, assist and evaluate State Agencies and Tribal Organizations administering programs supported under the OAA and other authorizing legislation as directed. Participates in the review of State Plans and recommend approval or disapproval, as appropriate. Participates in the review of applications for Tribal Programs and recommend approval or disapproval applications. Review grantee financial and program reports and provide technical assistance to recipients on fiscal operations. Oversees disaster assistance and reimbursement activities pursuant to Section 310 of the OAA.

Advise the Administrator on problems and progress of programs; evaluate the effectiveness of programs and services in the Regions and recommend changes that would improve program operations and enhance effectiveness; and provide guidance to agencies and grantees in applications of policy to specific operational issues requiring resolution. Facilitate interagency cooperation at the Federal, Regional, State and Tribal levels to enhance resources and assistance available to the elderly and persons with disabilities. Disseminate and provide technical assistance regarding program guidelines and developments to States Agencies, Tribal Organizations, and local community service providers.

B. Administration on Aging (BB)

BB.00 Mission

BB.10 Organization

BB.20 Functions

BB.00 Mission. The Administration on Aging (AoA) carries out programs operated under the OAA, Section 398 and Title XVII of the PHSA, and the EJA (Subtitle B of Title XX of the Social Security), including, but not limited to, those concerning the Elder Justice Coordinating Council and Adult Protective Services. The Administration on Aging helps elderly individuals maintain their dignity and independence in their homes and communities through comprehensive, coordinated, and cost effective systems of long-term care, and livable communities across the United States.

BB.10 Organization. The Administration on Aging is headed by the Assistant Secretary, who is also the Administrator. The Deputy Assistant Secretary for Aging supports the Assistant Secretary in overseeing the Administration on Aging. The Administration on Aging includes the following components:

Office of the Assistant Secretary on Aging (BBA)

Office of Supportive and Caregiver Services (BBB)

Office of Nutrition and Health Promotion Programs (BBC)

Office of Elder Justice and Adult Protective Services (BBD)

Office of American Indian, Alaskan Native, and Native Hawaiian Programs (BBE)

Office of Long-Term Care Ombudsman Programs (BBF)

BF.20 Functions

1. Office of the Assistant Secretary on Aging (BBA). The Office of the Assistant Secretary on Aging (OASA) advises and supports the Administrator, the Secretary, and other elements of the Department in serving as the visible and effective advocate for older people within the Federal Government. Provides leadership and expertise on program development, advocacy and initiatives affecting seniors and their caregivers. Plans and directs grant programs designed to provide planning, coordination and services to older Americans as authorized under the OAA and other legislation.

Performs functions under Title II of the OAA related to consultation with other Federal agencies and the provision of information about aging services, programs and policies in order to enhance coordination and delivery. Supports the Administrator in implementing Section 203(1) of the OAA by coordinating, advising, consulting with and cooperating with the head of each department, agency and instrumentality of the Federal Government proposing or administering programs or services substantially related to the objectives of the OAA. Oversees the consultation process by which agency heads must consult with AoA before establishing programs or services related to the OAA. Plans and implements the process for the collaboration of all Federal agencies with AoA in the execution by those agencies of programs and services related to the OAA.

Consults with and provides technical assistance to and education for State and Area Agencies on Aging, Tribal grantees, and local community service providers in the development of plans, goals, and system development activities. Ensures that statutory requirements, regulations, policies, and instructions are implemented for mandatory grant programs under Titles III, VI and VII of the OAA, and for the discretionary grant programs under Title II and Title IV of the OAA, as well as Section 398 and Title XVII of the PHSA and the EJA.

Provides oversight and leadership to the Nutrition Officer established in Title II of the OAA who provides technical assistance and guidance to Regional Support Centers, States, Area Agencies on Aging and community service providers. Provides technical guidance to the Regional Support Centers as they implement the national programs of the OAA and ensures that clear and consistent guidance is given on program and policy directives. Issues substantive operating procedures to guide Central Office and Regional staff in the conduct of their programmatic responsibilities.

At all levels, from national to the local service delivery level, develops methods and collaborations to articulate the problems and concerns of the elderly to organizations beyond the traditional network of agencies and works with these organizations to be more sensitive and responsive to age-related needs and issues. Oversees the international liaison functions of AoA, coordinating AoA international activities with Departmental as well as other Federal agencies, States and national organizations concerned with international aging matters.

2. Office of Supportive and Caregiver Services (BBB). The Office of Supportive and Caregiver Services (OSCS) serves as the focal point for the operation, administration, and assessment of the programs authorized under Titles III-B and III-E of the OAA and Section 398 of the PHSA, as well as activities under Titles II and IV of the OAA that are designed to provide information and referral services to seniors and caregivers, and to support technical assistance, outreach, and information dissemination that are culturally and linguistically appropriate in order to meet the needs of diverse populations of older individuals. In addition, the Office performs the functions under Title II of the OAA related to consultation with other Federal agencies and the provision of information about supportive and caregiver services in order to enhance service coordination and delivery.

Implements Titles III-B and III-E of the OAA through the development of regulations, policies and guidance governing the development and enhancement by State and Area Agencies on Aging of comprehensive and coordinated systems of home and community-based supportive and caregiver services. This includes implementing and enhancing systems for home and community-based supportive services, the operation of multi-purpose senior centers, and caregiver support and assistance services.

In coordination with the Office of Nutrition and Health Promotion Programs, provides guidance regarding State Plan processing and approval, the process and criteria for approval of States' Intrastate Funding Formulas for the allocation and targeting of resources within States, and implementation of the Interstate Funding Formula for distribution of Title III-B and III-E funds among States. Through the analysis of State Plans, evaluation findings and other relevant material, identifies potential program and management issues and develops recommendations on possible solutions.

Fosters, oversees, and ensures accountability for the implementation of programs by States and Area Agencies through guidance and direction to Regional staff regarding program reviews and system development and enhancements. Designs and provides training and technical assistance for program compliance, effectiveness, and enhancement. Provides technical and subject matter expertise targeted at enhancing the capabilities of State and Area Agencies and local communities to improve service delivery to older people.

Directs and assesses the development of State-administered home and community-based long-term care systems providing supportive services for the elderly and caregivers. Initiates and encourages expansion of the capacities of home and community-based supportive and caregiver services to deliver comprehensive services to the elderly.

Implements programs under Section 398 of the PHSA, as well as activities under Titles II and IV of the OAA, through the development of demonstrations designed to test the efficacy of new and innovative models in improving the delivery and effectiveness of community-based supportive services for seniors and caregivers. Prepares the planning documents for and develops discretionary grant program announcements. Evaluates demonstration grant and contract proposals; and recommends approval/disapproval. Monitors progress, gives technical guidance to, and evaluates the performance of grantees and contractors.

Promotes the coordination of innovation and demonstration activities with other national, field and local programs related to aging. Develops standards and identifies successful service and systems development strategies and best practice models for use by the Aging Network. Provides technical assistance to Aging Network partners in utilizing the findings from program demonstrations to inform policy and program development and enhance service delivery and coordination at the Federal, State and local level.

3. Office of Nutrition and Health Promotion Programs (BBC). The Office of Nutrition and Health Promotion Programs (ONHPP) serves as the focal point for the operation, administration, and assessment of the programs authorized under Titles III-C and III-D of the OAA and Title XVII of the PHSA, as well as activities under Titles II and IV of the OAA designed to promote healthy behaviors and improved health status for older people. In addition, the Office performs the functions under Title II of the OAA related to consultation with other Federal agencies and the provision of information about nutrition and preventive health services in order to enhance service coordination and delivery.

Implements Titles III-C and III-D of the OAA through the development of regulations, policies and guidance governing the development and enhancement by State and Area Agencies on Aging of comprehensive and coordinated systems of home and community-based nutrition and preventive health services. Carries out the functions of the designated Nutrition Officer, who coordinates nutritional services under the OAA, develops the regulations and guidelines, and provides technical assistance regarding nutrition to State and Area Agencies, nutrition service providers, and other organizations. Serves as the liaison to the Department of Agriculture and other Federal agencies and organizations related to nutrition policy and program issues.

In coordination with the Office of Supportive and Caregiver Services, provides guidance regarding State Plan processing and approval, the process and criteria for approval of States' Intrastate Funding Formulas for the allocation and targeting of resources within States, and implementation of the Interstate Funding Formula for distribution of Title III-C and III-D funds among States. Through the analysis of State Plans, evaluation findings and other relevant material, identifies potential program and management issues and develops recommendations on possible solutions.

Fosters, oversees, and ensures accountability for the implementation of programs by States and Area Agencies through guidance and direction to Regional staff regarding program reviews and system development and enhancements. Designs and provides training and technical assistance for program compliance, effectiveness, and enhancement. Provides technical and subject matter expertise targeted at enhancing the capabilities of State and Area Agencies and local communities to improve service delivery to older people.

Directs and assesses the development of State-administered home and community-based long-term care systems providing nutrition and preventive health services for the elderly and caregivers. Initiates and encourages expansion of the capacities of home and community-based nutrition and preventive health services to deliver comprehensive services to the elderly.

Implements programs under Title XVII of the PHSA, as well as other activities under Titles II and IV of the OAA, through the development of demonstrations designed to test the efficacy of new and innovative models in improving the delivery and effectiveness of community-based nutrition, health promotion, and evidenced-based disease prevention. Prepares the planning documents for and develops discretionary grant program announcements. Evaluates demonstration grant and contract proposals; and recommends approval/disapproval. Monitors progress, gives technical guidance to, and evaluates the performance of grantees and contractors.

Promotes the coordination of innovation and demonstration activities with other national, field and local programs related to aging. Develops standards and identifies successful service and systems development strategies and best practice models for use by the Aging Network. Provides technical assistance to Aging Network partners in utilizing the findings from program demonstrations to inform policy and program development and enhance service delivery and coordination at the Federal, State and local level.

4. Office of Elder Justice and Adult Protective Services (BBD). The Office of Elder Justice and Adult Protective Services (OEJAPS) serves as the focal point for the operation, administration, and assessment of the elder abuse prevention, legal assistance development, and pension counseling programs under Titles II and VII of the OAA, and for Adult Protective Services and related activities carried out under the EJA. The Office also coordinates with the Office of the National Long-Term Care Ombudsman which oversees the Long-Term Care Ombudsman Program and the National Ombudsman Resource Center.

Reviews State Plans to determine eligibility for funding under the OAA and recommends approval or disapproval. Implements Title VII in the field, in coordination with the National Long-Term Care Ombudsman, through the provision to Regional Support Centers of guidance and information, and the development and interpretation of Title VII program regulations and policy. Ensures the implementation of guidance and instructions concerning prevention of elder abuse, elder rights and legal assistance development programs. Provides guidance and leadership in the development of the pension counseling program and effective models for nationwide replication.

Fosters, coordinates, and ensures accountability for the implementation of Title VII by States through guidance and direction to Regional staff regarding program reviews, and program and system development and enhancements. Designs and provides training and technical assistance for program compliance, effectiveness, and enhancement. Develops program plans and instructions for Regional Support Centers and State and Area Agencies to improve the Title VII protection and representational programs funded under the OAA.

Implements demonstration activities under Titles II and IV of the OAA and the EJA designed to test the efficacy of new and innovative models in improving the delivery and effectiveness of elder rights activities. Prepares the planning documents for and develops discretionary grant program announcements. Evaluates demonstration grant and contract proposals; and recommends approval/disapproval. Monitors progress, gives technical guidance to, and evaluates the performance of grantees and contractors.

Promotes the coordination of innovation and demonstration activities with other national, field and local programs related to aging. Develops standards and identifies successful service and systems development strategies and best practice models for use by the Aging Network. Provides technical assistance to Aging Network partners in utilizing the findings from program demonstrations to inform policy and program development and enhance service delivery and coordination at the Federal, State and local level.

Provides Federal leadership for the development and implementation of comprehensive Adult Protective Services systems in order to provide a coordinated and seamless response for helping adult victims of abuse and to prevent abuse before it happens. Develops national Adult Protective Services data systems and standards, and provides technical assistance to states on using and interfacing with the system. Develops model Adult Protective Services program standards that help states improve the quality and consistency of programs. Advances a coordinated Federal research strategy to fill the gaps in knowledge and develop evidence-based interventions to prevent, identify and report, and respond to elder abuse, neglect and exploitation. Provides support for the Elder Justice Coordinating Council.

5. Office for American Indian, Alaskan Native, and Native Hawaiian Programs (BBE). The Office for American Indian, Alaskan Native, and Native Hawaiian Programs (OAIANNHP) serves as the effective and visible advocate within the Department of Health and Human Services and with other departments and agencies of the Federal Government regarding all Federal policies affecting older individuals who are Native Americans. Works with State, local and Tribal governments providing leadership and coordination of activities, services and policies affecting American Indians, Alaskan Natives and Native Hawaiian elders. Promotes linkages among national Indian organizations, national aging organizations, and national provider organizations with the goal of enhancing the interests of and services to Native American elders. Recommends policies and priorities with respect to the development and operation of programs and activities relating to individuals who are older Native Americans. The Office coordinates activities among other Federal departments and agencies to ensure a continuum of improved services through memoranda of agreements or through other appropriate means of coordination.

Evaluates outreach under Title III and Title VI of the OAA and recommends necessary action to improve service delivery, outreach, and coordination between Title III and Title VI services. Encourages and assists with the provision of information to older Native Americans to assure a continuum of services. Develops research plans, conducts and arranges for research in the field of Native American aging; collects, analyzes, and disseminates information related to problems experienced by older Native Americans, including information on health status of older individuals who are Native Americans, elder abuse, in-home care, and other problems unique to Native Americans. Develops, implements, and oversees the uniform data collection procedures for Tribal and Native Hawaiian Organizations; and implements and oversees the consultation requirements of Title II as they apply to Native American issues.

Serves as the AoA focal point for the administration of the programs authorized under Title VI and the Native American Organization provisions of Title VII-B of the OAA, including administering grants, cooperative agreements and contracts. Coordinates with the Regional Support Centers to provide program guidance, policy direction, training, technical assistance, and monitoring of Title VI grantees. Oversees the development and operation of Resource Centers on Native American Elders under Title IV of the OAA, which gather information, perform research, provide for dissemination of results, and provide technical assistance and training to those who provide services to Native American elders. Arranges for and manages ongoing training and technical assistance for Title VI grantees. Coordinates additional training and technical assistance related to diversity and national minority aging organizations and coalitions with other projects managed by other components of the agency.

6. Office of Long-Term Care Ombudsman Programs (BBF). The Office of the Long-Term Care Ombudsman Programs (OLTCOP) carries out the functions established in Section 201(d)(1) of the OAA, serving as the effective and visible advocate regarding Federal policies and laws that may adversely affect the health, safety, welfare, or rights of residents of long-term care facilities.

Reviews Federal legislation, regulations, and policies regarding long-term care ombudsman programs and makes recommendations to the Assistant Secretary for Aging. Coordinates the activities of ACL with other Federal, State and local entities relating to long-term care ombudsman programs; prepares an annual report to Congress on the effectiveness of services provided by State long-term care ombudsman programs; and establishes standards for the training of State long-term care ombudsman staff.

Coordinates with the Office of Elder Justice and Adult Protective Services on the administration of the Long-Term Care Ombudsman Program and the National Ombudsman Resource Center to ensure alignment with agency initiatives related to elder rights and adult protective services. Makes recommendations to the Administrator regarding the operation of the National Ombudsman Resource Center, and the review and approval of the provisions in State plans submitted under section 307(a) of the OAA that relate to State Long-Term Care Ombudsman programs.

C. Administration on Intellectual and Developmental Disabilities (BC)

BC.00 Mission

BC.10 Organization

BC.20 Functions

BC.00 Mission. The Administration on Intellectual and Developmental Disabilities (AIDD) advises the Secretary, through the Administrator on Community Living, on matters relating to individuals with intellectual and developmental disabilities and serves as the focal point in the Department to support and encourage the provision of quality services to individuals with developmental disabilities and their families. The Administration on Intellectual and Developmental Disabilities supports States and communities in increasing the independence, productivity and community inclusion of individuals with intellectual and developmental disabilities and ensuring that the rights of all individuals with intellectual and developmental disabilities are protected. Carries out programs operated under the DD Act, Section 262 and 292 of the HAVA, and Title III of the PHSA.

BC.10 Organization. The Administration on Intellectual and Developmental Disabilities is headed by a Commissioner, who reports directly to the Administrator. The Administration on Intellectual and Developmental Disabilities includes the following components:

Office of the Commissioner on Intellectual and Developmental Disabilities (BCA)

President's Committee for People with Intellectual Disabilities (BCA1)

Office of Program Support (BCB)

Office of Innovation (BCC)

BC.20 Functions

1. Office of the Commissioner on Intellectual and Developmental Disabilities (BCA). The Office of the Commissioner on Intellectual and Developmental Disabilities (OCIDD) provides executive leadership and management strategies for all components of the Administration on Intellectual and Developmental Disabilities, and serves as the principal advisor to the Administrator, the Secretary, and other elements of the Department for individuals with intellectual and developmental disabilities and their families. Plans, coordinates and controls AIDD policy, planning and management activities which include the development of legislative proposals, regulations and policy issuances for AIDD.

Provides executive direction to AIDD's components and establishes goals and objectives for AIDD programs. Assists states, through the design and implementation of a comprehensive and continuing state plan, in making optimal use of existing Federal and state resources for the provision of services and supports to individuals with intellectual and developmental disabilities and their families to achieve these outcomes.

In concert with other components of ACL as well as other public, private, and voluntary sector partners, develops and implements research, demonstration and evaluation strategies for discretionary funding of activities designed to improve and enrich the lives of individuals with intellectual and developmental disabilities. Serves as a resource in the development of policies and programs to reduce or eliminate barriers experienced by individuals with intellectual and developmental disabilities through the identification of promising practices and dissemination of information. Supports and encourages programs or services and manages initiatives, involving the private and voluntary sectors, that benefit individuals with intellectual, developmental, and other disabilities and their families.

Initiates, executes and supports the development of interagency, intergovernmental and public-private sector agreements, committees, task forces, commissions or joint-funding efforts as appropriate. In coordination with the Office of External Affairs, develops strategies for increasing public awareness of the needs of individuals with intellectual and developmental disabilities, their families, and programs designed to address them.

Provides general staff support for the President's Committee for People with Intellectual Disabilities (PCPID) a Presidential-level advisory body. Coordinates all meetings and Congressional hearing arrangements; provides such advice and assistance in the areas of intellectual disabilities as the President or the Secretary may request; and prepares and issues an annual report to the President concerning intellectual disabilities and such additional reports or recommendations as the President may require or as PCPID may deem appropriate.

2. Office of Program Support (BCB). The Office of Program Support (OPS) is responsible for the coordination, oversight, management and evaluation of the State Councils on Developmental Disabilities, the Protection and Advocacy Systems, and the University Centers for Excellence in Developmental Disabilities grant programs as authorized by the DD Act. The Office is responsible for the development of procedures and performance standards that ensure compliance with the DD Act and that improve the outcomes of the programs in increasing the independence, productivity and community inclusion of persons with developmental disabilities as well as program outreach activities.

Conducts routine and special analyses of state plans of State Councils on Developmental Disabilities, statement of goals and objectives of State Protection and Advocacy Systems, and five-year plans of the University Centers for Excellence in Developmental Disabilities, to assure consistent application of AIDD program goals and objectives. Provides program development services, develops and initiates guidelines, policy issuances and actions with team participation by other components of AIDD, ACL, HHS and other government agencies to fulfill the mission and goals of the DD Act, as amended.

Ensures the dissemination of grantee results, including project results and information produced by AIDD grantees, by coordinating with the Office of Innovation and the Office of the Commissioner on Intellectual and Developmental Disabilities for information sharing. Manages cross-cutting initiatives with other components of AIDD, ACL, HHS and other government agencies to promote and integrate the grant programs into cross-agency and cross-disability efforts.

3. Office of Innovation (BCC). The Office of Innovation is responsible for the coordination, oversight, management and evaluation of the Projects of National Significance, Family Support, and the Direct Support Workers grant programs as authorized by the DD Act. The Office is responsible for the development of procedures that ensure compliance with the DD Act and that improve the outcomes of the programs, grants and contracts in increasing the independence, productivity and community inclusion of persons with intellectual and developmental disabilities. Ensures the dissemination of project results and information produced by AIDD grantees.

Administers programs under the HAVA that improve accessibility for individuals with the full range of disabilities, including the blind and visually impaired, to polling places, including the path of travel, entrances, exits and voting facilities. Administers a training and technical assistance grant program under the HAVA that provides technical assistance to Protection and Advocacy Systems in their mission to promote the full participation in the electoral process for individuals with the full range of disabilities, including registering to vote, casting vote, and accessing polling places. Also carries out activities under Title III of the PHSA that promote the health and well-being of people living with paralysis and supports their families and caregivers by providing comprehensive information and referral services.

Originates and manages cross-cutting research, demonstration and evaluation initiatives with other components of AIDD, ACL, HHS and other government agencies. Coordinates information sharing and other activities related to national program trends with other ACL programs and HHS agencies and studies, reviews and analyzes other federal programs providing services applicable to persons with developmental disabilities for the purpose of integrating and coordinating program efforts.

D. Center for Consumer Access and Self-Determination (BD):

BD.00 Mission

BD.10 Organization

BD.20 Functions

BD.00 Mission. The Center for Consumer Access and Self-Determination serves as the locus within ACL for the administration of consumer access and protection programs, as well as programs and initiatives that promote the use of self-directed and person-centered service models, for all individuals, caregivers, and families. The Center carries out programs authorized under Titles II and IV of the OAA, Title XXIX of the PHSA, section 119 of the MIPPA, and section 4360 of the OBRA of 1990 that focus on helping states make their health care and long-term service and support systems more person-centered and consistent with the values of self-determination, full participation in community, integration and independence.

BD.10 Organization. The Center for Consumer Access and Self-Determination is headed by a Deputy Administrator, who reports directly to the Administrator. The Center for Consumer Access and Self-Determination includes the following components:

Office of the Deputy Administrator for Consumer Access and Self-Determination (BDA)

Office of Healthcare Information and Counseling (BDB)

Office of Managed Care Consumer Information and Assistance (BDC)

Office of Integrated Programs (BDD)

BD.20 Functions.

1. Office of the Deputy Administrator for Consumer Access and Self-Determination (BDA). The Office of the Deputy Administrator for Consumer Access and Self-Determination (ODACASD) supports the Administrator and the Principal Deputy Administrator in advancing systemic changes to make state health and long-term services and supports systems more person-centered and responsive to the needs and preferences of older Americans, people with disabilities, their families, and caregivers. Works with Federal partners and key external stakeholder groups to engage the multiple state agencies involved in long-term services and supports in developing high performing, consumer-oriented, and responsive systems of care for all populations.

Provides leadership and strategic direction to guide the administration of ACL programs that assist consumers in understanding their health care and long-term services and supports options, improve access, and prevent fraud and abuse. Consults with, provides technical assistance to, and supports the education of States and local community service providers in the development of plans, goals, and system development activities. Supports the coordination of programs within HHS and with Federal, state, community and private sector partners.

Works closely with AoA and AIDD to facilitate the coordination across ACL of multiple consumer protection and family support programs to fully optimize the potential synergies of these investments which, viewed as a whole, represent two of ACL's signature assets. Provides guidance to the Regional Support Centers to ensure clear and consistent direction in program implementation.

2. Office of Healthcare Information and Counseling (BDB). The Office of Healthcare Information and Counseling (OHIC) oversees the operation and administration of the State Health Insurance Assistance Program, authorized under the section 4360 of the OBRA of 1990, and the Senior Medicare Patrol Program, authorized under Title IV of the OAA, that help Medicare and Medicaid beneficiaries as well as coming-of-agers navigate the complexities of health and long-term care systems and educate them on how to prevent fraud, waste, and abuse. The office also manages related activities funded under section 119 of the MIPPA that focus on outreach to help beneficiaries understand and apply for their Medicare benefits including the Low Income Subsidy program (LIS), Medicare Savings Program (MSP), and Medicare Prescription Drug Coverage (Part D).

Coordinates, implements, monitors, and promotes efforts to provide consumer information and education designed to increase access to, and detect, prevent and report error, fraud and abuse in, the Medicare and Medicaid programs. Works with the ACL Regional Support Centers to provides in-depth expertise, information, leadership and technical assistance to assist the State Health Insurance Assistance Program and Senior Medicare Patrol networks, and serves as a reliable clearinghouse of information for older persons, people with disabilities, and their families and caregivers.

Develops funding opportunities and monitors grants to ensure all necessary activities are completed. Manages the full spectrum of contract requirements including identifying contractual needs, developing statements of work and necessary planning documents, and ensuring that contractors are completing assigned tasks. Ensures that grantees and their volunteers have the necessary information and training to carry out program functions. Develops and refines the performance management systems and provides specialized guidance and technical assistance to help grantees improve their performance. Coordinates with the Centers for Medicare & Medicaid Services and other national partnerships to advance program objectives.

3. Office of Managed Care Consumer Information and Assistance (BDC). The Office of Managed Care Consumer Information and Assistance (OMCCIA) oversees the management and execution of technical assistance activities, including the identification and dissemination of best practices and program models, for the Duals Demonstration Ombudsman Program, which supports grantees serving beneficiaries of state demonstrations to integrate care for Medicare-Medicaid enrollees associated with the Centers for Medicare & Medicaid Services Financial Alignment Initiative. Works with grantees to ensure that the beneficiaries participating in these demonstrations, as well as their caregivers and authorized representatives, have access to person-centered assistance in resolving problems related to their health plans and providers.

Coordinates with CMS in the development of funding opportunities for the Dual Demonstration Ombudsman grants program and in tracking the progress of the state programs. Ensures that grantees and their volunteers have the necessary information and training to carry out program functions. Coordinates with CMS and the state grantees in developing and refining performance management systems and provides specialized guidance and technical assistance to help grantees improve their performance. Analyzes program reports, including consumer feedback and complaints, and makes recommendations to CMS for improving the Ombudsman Program and the Financial Alignment Initiative.

4. Office of Integrated Programs (BDD). The Office of Integrated Programs (OIP) plans and directs the implementation of programs designed to enhance access to integrated services and person-centered programs and systems that support community living. Serves as the focal point for the administration the Lifespan Respite Care Program authorized under Title XXIX of the PHSA, Aging and Disability Resource Center program authorized under Title II of the OAA, the Veteran's-Directed Home and Community-Based Services program, and other activities as deemed appropriate.

OIP provides leadership and a central strategic focus for ACL's efforts to develop single entry point/no wrong door systems of access to long-term services and supports for both seniors, persons with disabilities, and their families and caregivers, in coordination with CMS and other Federal agencies. Promotes initiatives to expand access to services and the development of more responsive service systems, including person-centered planning and self-directed service models. Implements partnerships with external stakeholder organizations to enhance access to integrated systems of services that support both older Americans and persons of all ages with disabilities. Coordinates with the Veteran's Administration on the development and implementation of their long term services and support programs, including the Veteran's-Directed Home and Community-Based Services program and caregiver supports.

Administers grants, cooperative agreements and contracts and provides technical assistance and training in support of these activities. Coordinates with the Regional Support Centers to provide program guidance, policy direction, training, technical assistance, and monitoring of grantees. Prepares the planning documents for and develops discretionary grant program announcements. Evaluates demonstration grant and contract proposals; and recommends approval/disapproval. Monitors progress, gives technical guidance to, and evaluates the performance of grantees and contractors.

E. Center for Management and Budget (BE):

BE.00 Mission

BE.10 Organization

BE.20 Functions

BE.00 Mission. The Center for Management and Budget advises the Administrator on the budget, financial, grants, information resources, procurement, administrative and human resources management activities of ACL.

BE.10 Organization. The Center for Management and Budget is headed by a Deputy Administrator, who reports directly to the Administrator. The Center for Management and Budget includes the following components:

Office of the Deputy Administrator for Management and Budget (BEA)

Office of Budget and Finance (BEB)

Office of Administration and Personnel (BEC)

Office of Grants Management (BED)

Office of Information Resources Management (BEE)

BE.20 Functions.

1. Office of the Deputy Administrator for Management and Budget (BEA). The Office of the Deputy Administrator for Management and Budget (ODAMB) directs and coordinates all administrative and resource management activities for ACL. The Deputy Administrator for Management and Budget serves as the Executive Officer and Chief Financial Officer (CFO) and is the principal advisor and counselor to the Administrator on all aspects of the internal administration of ACL.

Serves as the ACL liaison with the Office of the Assistant Secretary for Administration (ASA), the Office of the Assistant Secretary for Financial Resources (ASFR), the Office of General Counsel (OGC), the Office of the Inspector General (OIG), and the Office of Management and Budget (OMB) for all budget and administrative management issues. Develops, administers, and coordinates financial, operational, and budgetary policies, processes, and controls necessary to administer ACL programs and financial resources; directs discretionary and mandatory grants activities; oversees the utilization of information resources, information technology systems and telecommunications; provides leadership for human capital development; and coordinates ACL's internal control activities.

Coordinates with other components to carry out reviews of program activities and management practices required under the Chief Financial Officers Act, the Federal Managers Financial Integrity Act, the Improper Payments Information Act, the Federal Information Security Management Act, and other legislation. Monitors legislation related to administrative management and provides analysis of the impact on ACL programs and resources. Conducts annual reviews and assessments of internal controls required under the Federal Managers Financial Integrity Act and ensures compliance with the GAO and OMB standards. Plans, organizes and conducts studies of organizational structures, functional statements, job structures, staffing patterns, and management and administrative information systems; and identifies and resolves problems of organization and administrative management. Prepares and maintains organizational and functional statements and delegations and designations of authority for ACL.

2. Office of Budget and Finance (BEB). The Office of Budget and Finance (OBF) supports the Deputy Administrator for Management and Budget in fulfilling ACL's Chief Financial Officer responsibilities. The OBF Director serves as the Deputy Chief Financial Officer, Budget Officer, and Senior Travel Official and oversees and coordinates ACL's budget formulation, budget execution, and financial management activities. OBF serves as the primary liaison with the Program Support Center's Division of Financial Management Services, which provides accounting, audit, and financial management services to AoA.

In coordination with the program offices, formulates and presents budget estimates; executes apportionment documents; and plans, directs, and coordinates financial and budgetary programs of ACL. Provides guidance to program offices in preparing budgets, justifications, and other supporting budgetary materials. Solicits, obtains and consolidates information and data from other offices, and prepares budget documents on behalf of the Administrator for presentation to the Department, OMB, and the Congress.

Analyzes the budget as approved by the Congress and apportioned by OMB, obtains input from program offices and recommends for the Administrator's approval a financial plan for its execution. Makes allowances to ACL offices within the guidelines of the approved financial plan. Develops and maintains an overall system of budgetary controls to ensure observance of established ceilings on both program—including all mandatory and discretionary grant accounts—and Salaries and Expense funds; maintains administrative control of funds against allotments and allowances; certifies funds availability for all accounts; and coordinates the management of interagency agreement activities. Prepares requests for apportionment of appropriated funds; and prepares spending plans and status-of-funds reports for the Administrator.

Develops financial operating procedures and manuals; coordinates financial audits; and provides analysis on financial issues. Ensures that internal controls are in place for administrative and programmatic activities that provide reasonable assurance of the effectiveness and efficiency of operations and compliance with applicable laws and regulations. Serves as the liaison with the Office of the Secretary and OMB on all budgetary and financial matters.

Coordinates all travel management activities. Provides technical assistance and oversight on the use of the GovTrip system; manages employee participation in the Travel Charge Card program, and coordinates the provision of Travel Management Center services.

3. Office of Administration and Personnel (BEC). The Office of Administration and Personnel (OAP) provides support to ACL in the areas of human capital development, personnel, facilities, acquisitions, and other administrative services. The OAP Director serves as the Chief Human Capital Officer and provides leadership for the strategic planning and operational management of human capital resources. OAP serves as the primary liaison to the Program Support Center's Division of Acquisition Management Services, which provides procurement services to ACL; and the National Capital Region Human Resources Center, which provides personnel support services.

Develops and implements human capital strategies and strategic workforce plans; directs the development and creation of strategies to attract diverse talent and develop a highly skilled workforce; and provides leadership in the development of plans for achieving short- and long-range human capital goals. Provides leadership and guidance to meet the human resource management needs and coordinates internal and external resources to provide staff with personnel services including position management, performance management, employee recognition, staffing, recruitment, employee and labor relations, employee assistance, payroll liaison, staff development and training, and special hiring and placement programs.

Provides oversight and direction to meet the administrative needs of ACL components. Prepares, coordinates and disseminates information, policy and procedural guidance on human resource and administrative management issues on an agency-wide basis. Serves as liaison with the Program Support Center's Division of Real Property Management Services and the General Services Administration (GSA) to plan, develop and coordinate space and facilities services. Serves as the lead for coordination and liaison with Departmental, GSA, Federal Protective Service, and other Federal agencies for planning and executing the agency's environmental health, safety and physical security programs. Provides coordination and direction for Continuity-of-Operations activities.

Assists other ACL components in securing contractor assistance by advising on appropriate acquisition vehicles, developing statements of work and independent cost estimates, and managing the technical aspects of contracts. Coordinates with the Office of Information Resources Management to develop and implement procurement strategies for information technology support services and review all information technology acquisition documentation for compliance with applicable laws and regulations. Monitors the use of credit cards for small purchases and establishes and manages contracts and/or blanket purchase agreements for administrative support and facilities management services.

4. Office of Grants Management (BED). The Office of Grants Management (OGM) serves as ACL's focal point for the management, leadership and administration of grants, and cooperative agreements. The OGM Director serves as the Chief Grants Management Officer and provides national policy oversight and development for grants management and administration matters. The Office ensures that all grant awards conform to applicable statutory, regulatory, and administrative policy requirements, both before and following award. Maintains liaison and coordination with appropriate ACL and HHS organizations to ensure consistency between discretionary and mandatory grant award activities, including the Program Support Center's Division of Payment Management Services, which provides payment system services for grants.

Ensures that the administrative, business and financial management aspects of grants administration are carried out and grantee performance is monitored. Performs cost analysis/budget analysis for all discretionary grant award documents and negotiates grant budgets, executing all awards. Advises management and program officials in developing, implementing and evaluating program plans, strategies, regulations, announcements, guidelines and procedures. Only the Office of Grants Management has the authority to obligate the Government to the expenditure of funds for grants and cooperative agreements. Serves as liaison with other Departmental offices for grants policy and administration.

Issues grant awards pursuant to requirement established in authorizing legislation, and makes adjustments to previously issued mandatory grant awards. In coordination with all Central Office and Regional Support Centers, reviews and assesses grant award procedures; directs and/or coordinates management initiatives to improve grant programs in financial areas; develops proposals for improving the efficiency in awarding grants and coordinating financial operations among grant programs; establishes priorities and develops procedures for grantee financial monitoring; and reviews activities at the field level for all grant programs.

For grant activities, develops financial management standards and provides guidance on and interpretation of applicable Federal regulations. Based on grants management policies and procedures approved by the Department, reprograms grant funds as required under authoring legislation. Following consultation with all Central Office and Regional Support Centers having grant administrative responsibilities, and with the approval of the Administrator, develops instructions and procedures for the administration of the business aspects of all grants.

Provides training, technical assistance, overall guidance, monitoring and assistance to ACL staff in all areas of administrative and financial management of grants. Has primary responsibility for developing grants management policy issuances, and ensuring consistent policy interpretation within ACL concerning grants management. Serves as the liaison with the GAO and the HHS OIG on grant matters. Assists at grant hearings, before the Departmental Appeals Board, in response to disallowances and other financial claims. Responds to Departmental and OIG audit reviews, ensuring proper analysis and resolution of audit findings by Regional Support Centers for final action by the Administrator. Coordinates receipt and processing of all grants and related materials.

5. Office of Information Resources Management (BEE). The Office of Information Resources Management (OIRM) oversees and coordinates the provision of information technology services for ACL. The OIRM Director serves as the Chief Information Officer and Privacy Officer and prepares, coordinates and disseminates information, policies, standards, guidelines, and procedures on information technology management issues. OIRM serves as the primary liaison to the HHS Office of Information Technology Infrastructure Operations, which provides for the management, maintenance and operation of ACL's information technology systems infrastructure, including the LAN, personal computers, software, hosting, and support services.

Manages the development of ACL custom applications, systems, and Web sites; oversees training and technical assistance for all systems, hardware and software; and coordinates the preparation of manuals and policy issuances required to meet the instructional and informational needs of users of the systems. Directs and coordinates ACL's systems security and privacy responsibilities, including protection, security and integrity of data; and is responsible for establishing and maintaining a secure Inter- and intranet presence. Coordinates mandated OMB approvals required for data collection activities under the Paperwork Reduction Act of 1980, as amended. Represents ACL on the Department's Chief Information Officer's Council and other Departmental information technology policy and planning boards, teams, and workgroups.

In coordination with the Office of Administration and Personnel, develops and implements procurement strategies for information technology support services. Reviews all information technology acquisition documentation for compliance with applicable laws and regulations and defines the specifications for procurement of all hardware and software. Identifies opportunities to share information technology services through inter-governmental, inter-departmental and inter-agency agreements.

Serves as liaison with the Office of the Secretary, GSA, and outside vendors to plan, develop and coordinate guidelines and activities for telecommunications services. Provides telecommunications planning and management, including procurement, installation, and maintenance of telecommunications equipment and services such as telephones, cellular phone service, cable TV service, and audio and video conferencing equipment and services.

F. Center for Policy and Evaluation (BF):

BF.00 Mission

BF.10 Organization

BF.20 Functions

BF.00 Mission. The Center for Policy and Evaluation advises and supports the Administrator and the Principal Deputy Administrator in developing effective Federal policies to address the needs of older individuals and individuals with disabilities. The Center collects and analyzes data on populations and services, develops strategic goals and objectives, evaluates the effectiveness of programs, and plans and coordinates the development of policies designed to overcome barriers that prevent older Americans and persons with disabilities from fully participating and contributing in an inclusive community life.

BF.10 Organization. The Center for Policy and Evaluation is headed by a Director, who reports directly to the Administrator. The Center for Policy and Evaluation includes the following components:

Office of the Director for Policy and Evaluation (BFA)

Office of Policy Analysis and Development (BFB)

Office of Performance and Evaluation (BFC)

BF.20 Functions.

1. Office of the Director for Policy and Evaluation (BFA). The Office of the Director for Policy and Evaluation (ODPE) advises the Administrator, the Principal Deputy Administrator, and the Secretary on matters relating to implementation and coordination of policies, regulations, and special initiatives within the Department and with other Federal agencies focused on disability and aging. Serves as the focal point within ACL and the Department for the analysis of, and development of recommendations related to, disability and aging issues, including policies, regulations, and special initiatives. Supports the coordination of policies within HHS and with Federal, state, community and private sector partners.

Leads the agency's strategic planning, policy analysis, and evaluation functions, including the formulation of short- and long-term strategies for advancing ACL policy and program priorities. Coordinates the development and implementation of the agency's strategic plan that establishes long and short-range goals, objectives, strategies and action plans for advancing the agency's policy and program agenda. Reviews and coordinates all policy and program development documents, regulations and activities to ensure consistency with ACL's strategic plan; and adjusts goals and strategies as appropriate. Coordinates the identification and analysis of emerging policy issues and trends and appropriate Federal responses. Formulates an agency-wide policy and program development strategy consistent with the priorities established by the Administrator and the Principal Deputy Administrator.

Plans and directs the evaluation of ACL programs designed to provide planning, coordination and services to older Americans and people with disabilities. The Director serves as the Performance Improvement Officer and is the primary liaison with the Office of the Assistant Secretary for Planning and Evaluation (ASPE), the Office of the Assistant Secretary for Financial Resources (ASFR), and the Office of Management and Budget (OMB) for program performance and evaluation activities.

2. Office of Policy Analysis and Development (BFB). The Office of Policy Analysis and Development (OPAD) analyzes trends in demographics, service needs, public policies and program development, and translates those trends into new policies and initiatives in long-term services and supports and health care that assist people with disabilities and older individuals to remain in their own homes and communities.

Directs intergovernmental activities as they relate to the agency's policy and program development agenda, and develops and maintains effective relationships with other governmental departments and agencies. Plans, negotiates, facilitates and updates, as appropriate, memoranda of understanding with other departments and agencies to promote agreements and cooperative relationships. Maintains information on, and pursues collaborative opportunities with, other Federal agencies, non-profit organizations and private corporations that have the potential to contribute to the agency's policy and program development priorities.

Provides technical, program and policy development input on legislative activities and the annual budget. Participates in Departmental and inter-departmental activities that concern health and long-term care; reviews and comments on Departmental regulations and policies regarding health programs, institutional and non-institutional long-term care services, and those designed to enhance community living.

Conducts relevant policy research, carries out periodic reviews of needs and resources in the fields of aging and disability, and undertakes qualitative and quantitative analyses to develop policy options and recommendations for the Administrator and the Principal Deputy Administrator. Develops policy reports based on the needs and circumstances of older people, their family members and the aging population. Develops and coordinates initiatives with other Federal agencies, national aging organizations, national disability organizations, and universities to fill gaps in information in the field of aging and disability.

3. Office of Performance and Evaluation (BDC). The Office of Performance and Evaluation (OPE), in collaboration with the respective ACL program offices, implements, oversees and manages ACL's program performance responsibilities, data collection systems, and program evaluation activities. Develops plans and priorities for evaluation of ACL programs, with subject matter input from appropriate units. Manages contracts for mandated evaluation projects and performs intramural evaluation studies. Prepares reports of the results of program and impact evaluations conducted by and for ACL, with technical input from other ACL units. Provides technical guidance on evaluation activities conducted as part of ACL's discretionary grants programs.

Implements the requirements of the Government Performance and Results Act of 1993 (GPRA) and the GPRA Modernization Act of 2010. Interprets ACL goals, priorities, and strategies for consistency with ACL long-range GPRA goals and strategies, and adjusts GPRA goals and strategies accordingly. Provides guidance and technical assistance to ACL organizational units in developing operational plans, particularly in developing measurable objectives and indicators reflecting program and organizational performance. Prepares annual GPRA plans and reports and coordinates with the Office of Budget and Finance on the development of the ACL performance budget.

Coordinates ACL activities related to the collection, analysis, and dissemination of national and program data on older individuals and individuals with disabilities. Develops and manages data requirements; designs the criteria for collecting, analyzing and disseminating program performance data; and prepares the data for reporting to Congress and the public. Designs, implements and provides guidance and technical assistance to funding recipients on data collection and analysis. Works with the Office of Information Resources Management to coordinate mandated Office of Management and Budget (OMB) approvals required under the Paperwork Reduction Act of 1980, as amended.

Compiles, publishes, and disseminates information on demographic data and data from other Federal agencies on the health, social and economic status of older persons and persons with disabilities. Performs routine and special statistical analyses of data for ACL offices, other Federal and non-Federal organizations, and the general public.

II. Delegations of Authority: All delegations and re-delegations of authority made to officials and employees of affected organizational components will continue in them or their successors pending further re-delegations.

III. Funds, Personnel and Equipment: Transfer of organizations and functions affected by this reorganization shall be accompanied in each instance by direct and support funds, positions, personnel, records, equipment, supplies and other resources.

Dated: August 29, 2014.
Sylvia M. Burwell,
Secretary.

[FR Doc. 2014-24639 Filed 10-15-14; 8:45 am]

BILLING CODE P